FEDERAL COMMUNICATIONS COMMISSION

47 CFR Parts 73 and 76

[MM Docket Nos. 98-204 and 96-16; FCC 00-20]

Revision of Broadcast and Cable EEO Rules and Policies

AGENCY: Federal Communications Commission.

ACTION: Final rule; announcement of effective date.

SUMMARY: The Commission adopted new broadcast Equal Employment Opportunity (EEO) rules and policies and amended its cable EEO rules and policies. Certain rules contained new and modified information collection requirements and were published in the Federal Register on February 15, 2000. This document announces the effective date of these published rules.

EFFECTIVE DATE: The amendments to §§ 73.2080; 73.3526; 73.3527; 76.75; 76.77; 76.79; 76.1702; and 76.1802, published at 65 FR 7448 (February 15, 2000) became effective on April 18, 2000.

FOR FURTHER INFORMATION CONTACT: Roy Boyce, Mass Media Bureau, EEO Staff. (202) 418-1450.

SUPPLEMENTARY INFORMATION: On April 18, 2000, the Office of Management and Budget (OMB) approved the information collection requirements contained in §§ 73.2080; 73.3526; 73.3527; 76.75; 76.77; 76.79; 76.1702; and 76.1802 pursuant to OMB Control Nos. 3060-0212 and 3060-0349. Accordingly, the information collection requirements contained in these rules became effective on April 18, 2000.

Federal Communications Commission.
William F. Caton,
Deputy Secretary.

[FR Doc. 00-10541 Filed 4-26-00; 8:45 am]

BILLING CODE 6712-01-P